FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than December 10, 2013.

A. Federal Reserve Bank of Kansas City (Dennis Denney, Assistant Vice President) 1 Memorial Drive, Kansas City, Missouri 64198-0001:

1. The Jan Elaine Townsend 2012 Trust, The Hilary Irene Townsend 2012 Trust, The Lara Townsend Gradt 2012 Trust, and the Jennifer Townsend Earls 2012 Trust, Barbara Newman Townsend, trustee, all of Grove, Oklahoma; to acquire voting shares of Townsend Holding Company, and thereby indirectly acquire voting shares of Bank of Grove, both in Grove, Oklahoma.

Board of Governors of the Federal Reserve System, November 20, 2013.
Michael J. Lewandowski,
Associate Secretary of the Board.

[FR Doc. 2013-28220 Filed 11-22-13; 8:45 am]

BILLING CODE 6210-01-P